SECURITIES AND EXCHANGE COMMISSION

[File No. 500-1]

In the Matter of Hall Tees, Inc., Phoenix Medical Software, Inc., Surface Coatings, Inc., Flint Int'l Services, Inc., Order of Suspension of Trading

October 31, 2014.

It appears to the Securities and Exchange Commission that there is a lack of current and accurate information concerning the securities of the issuers listed below.

1. Hall Tees, Inc. is a Nevada corporation located in Rowlett, Texas. Questions have arisen concerning the accuracy of information contained in its current Commission filings, including information concerning the individuals who control the company and their future intentions with respect to the company. The company is quoted on the OTC Link operated by OTC Markets Group, Inc. (“OTC Link”), under the stock symbol HTEE.

2. Phoenix Medical Software, Inc. is a Cayman Islands company located in Ovilla, Texas. Questions have arisen concerning the accuracy of information contained in its current Commission filings, including information concerning the individuals who control the company and their future intentions with respect to the company. The company is quoted on the OTC Link, under the stock symbol PHXMF.

3. Surface Coatings, Inc. is a Texas corporation located in Rockwall, Texas. Questions have arisen concerning the accuracy of information contained in its current Commission filings, including information concerning the individuals who control the company and their future intentions with respect to the company. The company is quoted on the OTC Link, under the stock symbol SCTZ.

4. Flint Int'l Services, Inc. is a British Virgin Islands company located in Vaughn, Ontario, Canada. Questions have arisen concerning the accuracy of information contained in its current Commission filings, including information concerning the individuals who control the company and their future intentions with respect to the company. The company is quoted on the OTC Link, under the stock symbol FNTSF.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on October 31, 2014, through 11:59 p.m. EST on November 13, 2014.

By the Commission.
Brent J. Fields,
Secretary.

[FR Doc. 2014-26245 Filed 10-31-14; 4:15 pm]

BILLING CODE 8011-01-P